ENVIRONMENTAL PROTECTION AGENCY

[EPA-HQ-OECA-2014-0103; FRL—9991-09-OEI]

Information Collection Request Submitted to OMB for Review and Approval; Comment Request; NSPS for Nitric Acid Plants for Which Construction, Reconstruction or Modification Commenced After October 14, 2011 (Renewal)

AGENCY: Environmental Protection Agency (EPA).

ACTION: Notice.

SUMMARY: The Environmental Protection Agency (EPA) has submitted an information collection request (ICR), NSPS for Nitric Acid Plants for which Construction, Reconstruction or Modification Commenced after October 14, 2011 (EPA ICR Number 2445.04, OMB Control Number 2060-0674), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor and a person is not required to respond to a collection of information unless it displays a currently valid OMB control number.

DATES: Additional comments may be submitted on or before April 25, 2019.

ADDRESSES: Submit your comments, referencing Docket ID Number EPA-HQ-OECA-2014-0103, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Nitric Acid Plants for which Construction, Reconstruction or Modification Commenced after October 14, 2011 (40 CFR part 60 Subpart Ga) were proposed on October 14, 2011, and promulgated on August 14, 2012. These regulations apply to new nitric acid production units (NAPUs) that produce weak nitric acid by either the pressure or atmospheric pressure process. Nitrogen oxide (NOX) is the pollutant regulated under this subpart. The standards limit nitrogen oxides, expressed as nitrogen dioxide (NO2), to 0.50 lb per ton of 100 percent nitric acid produced. This information is being collected to assure compliance with 40 CFR part 60, subpart Ga. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Nitric acid production units constructed, reconstructed or modified after October 14, 2011.

Respondent's obligation to respond: Mandatory (40 CFR part 60, subpart Ga).

Estimated number of respondents: 10 (total, rounded).

Frequency of response: Initially and occasionally.

Total estimated burden: 1,740 hours (per year). Burden is defined at 5 CFR 1320.3(b).

Total estimated cost: $481,000 (per year), which includes $283,000 in annualized capital/startup and/or operation & maintenance costs.

Changes in the Estimates: The increase in burden from the most recently-approved ICR is due to an adjustment. The adjustment increase in burden is due to an increase in the number of new or modified sources. The change in burden for the new and existing facilities is due primarily to updated estimates of existing and anticipated new sources based on information from industry, which supports a constant growth rate. There is an increase in the number of total annual responses. This increase is due to the update in the number of respondents, as well as a correction to the prior burden estimates, which did not account for submittal of reports for malfunctions (40 CFR 60.77a(f)). Finally, there is a small adjustment increase in the capital/startup vs. operation and maintenance (O&M) costs as calculated in section 6(b)(iii) compared with the costs in the previous ICR. The increase in O&M costs reflected in this ICR is due to the increased universe of respondents.

Courtney Kerwin,
Director, Regulatory Support Division.

[FR Doc. 2019-05746 Filed 3-25-19; 8:45 am]

BILLING CODE 6560-50-P